DEPARTMENT OF COMMERCE

National Oceanic and Atmospheric Administration

RIN 0648-XD595

Endangered and Threatened Species; Take of Anadromous Fish

AGENCY: National Marine Fisheries Service (NMFS), National Oceanic and Atmospheric Administration (NOAA), Commerce.

ACTION: Applications for three new scientific research permits, one permit modification, and seven research permit renewals.

SUMMARY: Notice is hereby given that NMFS has received 11 scientific research permit application requests relating to Pacific salmon, sturgeon, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on December 5, 2014.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Lower Columbia River (LCR); threatened Puget Sound (PS); threatened Snake River (SR) fall-run; threatened SR spring/summer-run (spr/sum); endangered Upper Columbia River (UCR) spring-run; threatened Upper Willamette River (UWR).

Steelhead (O. mykiss): Threatened UCR; threatened SR; threatened middle Columbia River (MCR); threatened LCR; threatened PS; threatened UWR.

Sockeye salmon (O. nerka): Endangered SR.

Chum salmon (O. keta): Threatened Columbia River (CR); threatened Hood Canal summer (HCS).

Coho salmon (O. kisutch): Threatened LCR; threatened Oregon Coast (OC).

Eulachon (Thaleichthys pacificus): Threatened southern distinct population segment (DPS) (S. eulachon).

Green sturgeon (Acipenser medirostris): Threatened southern DPS.

Rockfish (Sebastes spp.): Endangered Puget Sound/Georgia Basin (PS/GB) bocaccio (Sebastes paucispinis); threatened PS/GB canary rockfish (S. pinniger); threatened PS/GB yelloweye rockfish (S. ruberrimus).

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1523-3R

The National Council of Air and Stream Improvements (NCASI) is seeking to renew its permit to annually take listed salmon while conducting research in the McKenzie and Willamette rivers in Oregon. The researchers are requesting another five-year permit to take juvenile UWR Chinook salmon while studying water quality and biological conditions in rivers receiving paper and pulp mill discharges. The research would provide information on existing conditions in the watersheds and on changes in those conditions over time. Ultimately, the research would produce data regarding the aquatic communities' responses to environmental stressors. The information would be used in a larger effort to monitor watershed health, water quality, and salmon recovery in the upper Willamette River subbasin. The NCASI researchers propose to capture (using boat electrofishers), handle, and release listed salmon. They do not intend to capture adult fish but some may be in the area being fished and would be avoided as much as possible. While most of the fish would be unharmed, some juveniles may unintentionally be killed during the course of the research.

Permit 1525-6R

The Northwest Fisheries Science Center (NWFSC) is seeking to renew its permit to annually take listed salmonids while studying habitat occurrence, diet, contaminant concentrations, and health indicators in juvenile salmonids from the Lower Willamette and Columbia Rivers. The NWFSC is requesting another five-year permit to take SR spring/summer Chinook salmon, SR fall Chinook salmon, SR sockeye, SR steelhead, UCR Chinook salmon, UCR steelhead, MCR steelhead, LCR Chinook salmon, LCR coho salmon, LCR steelhead, UWR Chinook salmon, UWR steelhead, CR chum salmon, Southern Distinct Population Segment (DPS) green sturgeon, and Southern DPS eulachon. The purposes of the study are to (1) determine contaminant concentrations in fish, (2) understand bioaccumulation in juvenile salmon and determine site specific factors, (3) analyze for the presence of physiological biomarkers, and (4) investigate the presence of indicators of exposure to environmental estrogens. The research would benefit the fish by providing resource managers with information on contaminant presence and concentration for a variety of contaminants and in a wide array of species. That data, in turn, would be used to inform numerous processes and documents from fishing regulations to recovery plans. The NWFSC would collect samples with seines or high speed rope trawls in the lower Willamette River, Oregon, and in the Columbia River from Bonneville Dam to the mouth. Researchers would handle juvenile fish and intentionally kill some of them to assay pathogen prevalence and intensity, biochemical composition, histopathological attributes, and stomach content analyses.

Permit 10020-4M

The City of Bellingham (COB) is seeking to modify a five-year research permit that currently allows them to take juvenile PS Chinook salmon and juvenile and adult PS steelhead. The sampling would take place in Cemetery and Squalicum creeks near Bellingham, WA. The purpose of the study is to assess the effectiveness of habitat restoration measures implemented as part of the Whatcom Creek Long-term Restoration Plan by documenting fish population trends. This research would benefit the affected species by informing future restoration designs as well as providing data to support future enhancement projects. The COB proposes to capture fish using smolt traps placed in Cemetery and Squalicum creeks. Fish would be captured, anesthetized, identified by species, measured, have a tissue sample taken (to determine their origin), and allowed to recover in cool, aerated water before being released back to the stream. The researchers do not propose to kill any of the listed salmonids being captured, but a small number may die as an unintended result of the activities.

Permit 14668-2R

The United States Fish and Wildlife Service (FWS) is seeking to renew its permit to take listed salmonids while conducting the National Wild Fish Health Survey. The FWS is requesting another five-year permit to take listed salmon and steelhead while conducting research on the distribution of the Spring Viremia virus in wild carp. The FWS would capture, handle, and release listed juvenile salmonids (UCR Chinook, UCR steelhead, SR spring/summer Chinook, SR fall Chinook, SR steelhead, SR sockeye, MCR steelhead, LCR Chinook, LCR coho, LCR steelhead, CR chum, UWR Chinook, UWR steelhead, and OC coho) while conducting the research on carp. The FWS researchers would use beach seines and boat- and backpack electrofishing equipment to capture juvenile fish. The researchers would avoid contact with adult salmonids. If listed fish are captured during the research, they would be released immediately. The researchers do not expect to kill any listed fish but a small number may die as an unintended result of the research activities.

Permit 15205-3R

The KWIAHT Center for the Historical Ecology of the Salish Sea is seeking to renew for five years a research permit that currently allows them to take juvenile PS Chinook salmon. Sampling sites would occur offshore of Blakely, Decatur, Lopez, and Waldron islands in the San Juan Island archipelago in Washington's Puget Sound. The purpose of this research is to measure prey opportunities (quantity and quality) for juvenile Chinook and other salmonids when they congregate annually in the San Juan Islands basin. This research would benefit PS Chinook salmon by analyzing the importance of terrestrial prey to juvenile wild Chinook during their neritic life history stage. The researchers propose using a beach seine to capture the fish. Fish would be captured, anesthetized, measured, have a tissue sample taken (sample scale and fin clip), gastric lavaged, and be allowed to recover in cool, aerated water until they are ready for release. The researchers do not propose to kill any of the listed salmonids being captured, but a small number may die as an unintended result of the activities.

Permit 15230-2R

West Fork Environmental, Inc. (WFE) is seeking to renew for five years a research permit that currently allows them to take juvenile PS Chinook salmon and PS steelhead. The work would be conducted at sampling sites on the Tolt River (Snoqualmie River sub-basin). The purpose of the study is to better understand the seasonal use of the Tolt River and its tributaries by juvenile summer PS steelhead prior to their outmigration. This research would benefit PS steelhead by providing a better understanding of population-specific age structure, genetic structure, and movement patterns. The WFE researchers propose to capturing fish using beach seines, backpack electrofishing, and boat electrofishing. Steelhead would be captured, anesthetized, measured, weighed, have a tissue sample taken (sample scale and fin clip), PIT tagged, and allowed to recover in cool, aerated water until they are ready for release. All captured PS Chinook would be anesthetized, held until they recover, and released. The researchers do not propose to kill any of the listed salmonids being captured, but a small number may die as an unintended result of the activities.

Permit 17062-4R

The NWFSC is seeking to renew for five years a research permit that currently allows them to take juvenile and adult HCS chum, PS Chinook salmon, PS steelhead, and PS/GB bocaccio. The researchers may also take juvenile and adult PS/GB canary rockfish and PS/GB yelloweye rockfish, for which there are currently no ESA take prohibitions. Sampling would take place throughout the Puget Sound, the Strait of Juan de Fuca, and Hood Canal, Washington. The purpose of the study is to determine how much genetic variation exists between coastal and PS/GB DPS populations of bocaccio, canary rockfish, and yelloweye rockfish. The research would benefit rockfish by increasing the understanding of the connectivity (or lack thereof) between rockfish populations in the Puget Sound and populations on the outer coast. The NWFSC proposes to capture fish by (1) using hook and line equipment at depths of 50-100 meters and (2) using a hand net while SCUBA diving at depths up to 40 meters. For the hook and line fishing, captured rockfish would be slowly reeled to the surface and returned to the water via rapid submersion techniques to reduce barotrauma. For the hand netting, juvenile rockfish would be processed either at the capture site or brought to the surface before being released. All captured ESA-listed rockfish would be measured, sexed, have a tissue sample taken, floy tagged, and released. If an individual of these species is captured dead or deemed nonviable, it would be retained for genetic analysis. All other fish would be immediately released at the capture site. The researchers do not propose to kill any of the listed fish being captured, but a small number may die as an unintended result of the activities.

Permit 14772-2R

The Oregon Department of Fish and Wildlife (ODFW) is seeking to renew its permit to take juvenile and adult OC coho salmon. They are requesting another five-year permit to take OC coho while studying fish abundance and distribution and habitat preference in the Umpqua River. The researchers would also study the distribution of non-native invasive species, interspecific competition, and predator-prey interactions. The information would benefit OC coho by helping to improve management plans. The fish would be captured using backpack and boat electrofishing equipment; they would then be handled and released unharmed. The ODFW researchers would avoid adult coho, but a few may be shocked. In the event that an adult coho is encountered, the research crew would shut off the electrical current and allow the fish to swim away and no more electrofishing would occur in that location. The ODFW researchers do not intend to kill any of the fish being captured but a small number of juvenile coho may die as an unintended result of the activities.

Permit 18852

The FWS is seeking a five-year permit to take UCR Chinook and steelhead and MCR steelhead while conducting three studies in the mid- and upper Columbia River in Washington State. The studies are (1) The Yakima Habitat Restoration Project Assessment (in which the effectiveness of habitat restoration projects would be measured); (2) The Toppenish Refuge Steelhead Use Assessment (in which steelhead habitat use on the Toppenish National Wildlife Refuge would be examined); and (3) Fish Population and Distribution Assessments (in which the FWS would study bull trout and Pacific lamprey distribution and abundance and possibly encounter listed salmonids). Under Study 1, the researchers would use backpack electrofishers to capture MCR steelhead. The captured fish would be identified by species, anesthetized, measured, and released. Under Study 2, the researchers would use a screw trap to capture juvenile MCR steelhead. The captured fish would be anesthetized, tagged and tissue sampled, measured, allowed to recover, and released. Under Study 3, the primary collection method would be netting while snorkeling, but in some areas backpack electrofishing equipment (including lamprey electrofishers) would be used. Non-target species, including UCR steelhead and Chinook salmon, would be not be netted if they can be identified. The captured steelhead and Chinook would be released with minimal handling, but some may be anesthetized, identified by species, and scanned for PIT tags. These fish will be held and allowed to recover in cool, aerated water and released at or near the site of capture.

The studies would benefit the fish by helping guide habitat restoration efforts and refuge planning and adding information on fish presence and interactions in areas where they are currently poorly understood. The researchers do not intend to kill any of the fish being captured but a small number may die as an inadvertent result of the activities.

Permit 18883

The City of Portland has requested a one-year permit to take listed salmon and steelhead while conducting fish tissue sampling in the Columbia River slough. The City performs fish tissue sampling every 10 years to assess whether upland source control actions have reduced the level of toxins in fish tissue and to evaluate exposure levels for people who consume fish. Due to their high lipid content and feeding habits, carp are the target fish species used to evaluate exposure levels. The City would collect adult carp, using boat electrofishing equipment, from locations throughout the Slough. Although salmon and steelhead are not the target of the study, the City may inadvertently take juvenile and adult LCR Chinook salmon, LCR coho salmon, LCR steelhead, UWR Chinook salmon, and UWR steelhead. These fish would benefit from the information to be gained because that information would be used to reduce contaminant loads in all fish using the slough. The City does not intend to kill any of the salmonids being captured but a small number of juvenile fish may die as an unintended result of the activities.

Permit 18906

The Northwest Straits Foundation (NSF) is seeking a five-year research permit to annually take juvenile HCS chum salmon, PS Chinook salmon, and PS steelhead. The researchers may also take adult S eulachon, for which there are currently no ESA take prohibitions. Sampling would take place at 20 to 30 sites in Puget Sound at the following locations: Fidalgo Bay, Bowman Bay, Shannon Point, Fort Townsend, Oak Bay, and Smugglers Cove. The purpose of the study is to monitor ecosystem response to restoration efforts and determine the restoration activities' effectiveness at reestablishing habitat as a natural functioning ecosystem. The research would benefit the listed species by determining the effectiveness of these restoration efforts and helping guide future efforts. The NSF proposes to use beach seines to capture the fish; they would then be identified by species, measured, and released. The researchers do not propose to kill any of the listed fish being captured, but a small number may die as an unintended result of the activities.

Permit 19013

Long Live the Kings (LLTK) is seeking a five-year research permit to annually take juvenile HCS chum salmon, PS Chinook salmon, and PS steelhead from the Hamma Hamma River, Washington, while assessing effects and effectiveness of PS steelhead supplementation in that area. The research would benefit the listed species by determining what legacy effects the PS steelhead hatchery program has had on natural steelhead populations (abundance, genetic diversity, and life history diversity). The LLTK researchers propose to use a rotary screw trap to capture the fish which would then be anesthetized, weighed, measured, have a tissue sample taken (sample scale and fin clip), and allowed to recover in cool, aerated water until they are ready for release. The researchers do not propose to kill any of the listed salmonids being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: October 29, 2014.
Angela Somma,
Chief, Endangered Species Division, Office of Protected Resources, National Marine Fisheries Service.

[FR Doc. 2014-26243 Filed 11-4-14; 8:45 am]

BILLING CODE 3510-22-P